DEPARTMENT OF AGRICULTURE

Rural Housing Service

7 CFR Parts 3550 and 3555

[Docket No. RHS-23-SFH-0007]

RIN 0575-AD32

Updating Manufactured Housing Provisions; Extension of Comment Period

AGENCY: Rural Housing Service, Department of Agriculture (USDA).

ACTION: Proposed rule; extension of comment period.

SUMMARY: The Rural Housing Service (RHS or Agency), a Rural Development agency of the United States Department of Agriculture (USDA), is announcing an extension of the public comment period by 15 days for the notice of proposed rulemaking for the “Updating Manufactured Housing Provisions.” The intent of the extended comment period is to allow the public additional time to review and provide comments on the proposed changes.

DATES: The comment period for the proposed rule published on August 16, 2023, at 88 FR 55601, is extended. Comments must be received on or before October 31, 2023.

ADDRESSES: Comments may be submitted electronically by the Federal eRulemaking Portal: Go to https://www.regulations.gov and, in the “Search Field” box, labeled “Search for dockets and documents on agency actions,” enter the following docket number: https://aiomostl0as096.usda.net/desktop/container/?locale=en_US-/home (RHS-23-SFH-0007) or RIN# 0575-AD32, then click search. To submit or view public comments, select the following document title: (Updating Manufactured Housing Provisions) from the “Search Results,” and select the “Comment” button. Before inputting your comments, you may also review the “Commenter's Checklist” (optional). Insert your comments under the “Comment” title, click “Browse” to attach files (if available). Input your email address and select “Submit Comment.” Information on using Regulations.gov, including instructions for accessing documents, submitting comments, and viewing the docket after the close of the comment period, is available through the site's “FAQ” link.

Other Information: Additional information about Rural Development and its programs is available on the internet at https://www.rurdev.usda.gov/index.html.

All comments will be available for public inspection online at the Federal eRulemaking Portal (https://www.regulations.gov).

FOR FURTHER INFORMATION CONTACT: Sonya Evans, Finance & Loan Analyst, SFH Direct Loan Division, Rural Housing Service, Rural Development, United States Department of Agriculture, 1400 Independence Avenue SW, Washington, DC 20250, Phone: 423-268-4333, Email: sonya.evans@usda.gov. Or contact Stephanie Freeman, Finance & Loan Analyst, Policy, Analysis, and Communications Branch, Single Family Housing Guaranteed Loan Division, Rural Housing Service, Rural Development, United States Department of Agriculture, 1400 Independence Avenue SW, Washington, DC 20250, Phone: 314-457-6413, Email: stephanie.freeman@usda.gov.

SUPPLEMENTARY INFORMATION: In the Federal Register of August 16, 2023 (88 FR 55601), the Agency published a proposed rule entitled, “Updating Manufactured Housing Provisions.” The intent of the proposed rule is to suggest Agency changes to the current regulations for the Single-Family Housing (SFH) Section 502 Direct and the SFH Guaranteed Loan Program to allow the Agency to give borrowers increased purchase options within a competitive market and increase adequate housing along with an enhanced customer experience with the SFH programs. The proposed rule initially provided a 60-day period for submission of public comments on or before October 16, 2023. The Agency is extending the comment period for public comments to October 31, 2023, to allow for additional review and submission time.

Joaquin Altoro,
Administrator, Rural Housing Service.

[FR Doc. 2023-22184 Filed 10-4-23; 8:45 am]

BILLING CODE 3410-XV-P